DEPARTMENT OF THE INTERIOR

Bureau of Land Management

[LLCOF02000 L12200000.AL0000-17X]

Notice of Intent To Collect Fees at the Guffey Gorge Day-Use Area in Park County, Colorado

AGENCY: Bureau of Land Management, Interior.

ACTION: Notice.

SUMMARY: Pursuant to applicable provisions of the Federal Lands Recreation Enhancement Act (FLREA), the Bureau of Land Management's (BLM) Royal Gorge Field Office is proposing to begin collecting fees for a Standard Amenity Day-Use Site in the Guffey Gorge Day-Use Area, east of Guffey, within Park County, Colorado. In the 2015 Guffey Gorge Management Plan, the BLM designated Guffey Gorge Day-Use Area as a Special Area, where resources require intensive management and control measures for their protection, and a permit system to achieve management objectives.

DATES: Comments on the proposed fee changes must be received or postmarked by February 28, 2018 and include a legible full name and address. Applicable May 29, 2018, the BLM will initiate fee collection at the Guffey Gorge Day-Use Area, unless the BLM publishes a Federal Register notice to the contrary. Comments received after the close of the comment period or delivered to an address other than the one listed in this notice may not be considered or included in the administrative record for the proposed fee.

ADDRESSES: Documents concerning this fee change may be reviewed at the Royal Gorge Field Office, 3028 E. Main Street, Canon City, CO 81212; phone: 719-269-8500; and online at: https://go.usa.gov/xnKWH.

FOR FURTHER INFORMATION CONTACT: Linda Skinner, Outdoor Recreation Planner, at the address above. Persons who use a telecommunications device for the deaf (TDD) may call the Federal Relay Service at 1-800-877-8339 to contact the above individual during normal business hours. The Service is available 24 hours a day, seven days a week, to leave a message or question with the above individual. You will receive a reply during normal business hours.

SUPPLEMENTARY INFORMATION: In 2013, the BLM began the public planning process for developing a management plan for the 80-acre Guffey Gorge parcel to manage the increasing impacts and conflicts related to high visitation numbers. This process included presentations and site tours with the Resource Advisory Council (RAC), the BLM Solicitor, the Park County Sheriff, and neighboring landowners. The BLM released the draft Business Plan and Guffey Gorge Management Plan Environmental Assessment (EA) for public comment in November 2014. The BLM considered all comments from the EA when preparing the final versions of these documents as well as the Finding of No Significant Impact (FONSI) and Decision Record. The BLM signed the FONSI and Decision Record on June 29, 2015.

The EA and Business Plan provide management direction for regulating recreational visitation, while minimizing impacts to other resources and providing a high quality experience. The Business Plan analyzed anticipated management costs and a variety of revenue structures to determine a fee that is comparable to fees charged by regional facilities that offer similar amenities.

This Business Plan, prepared pursuant to the FLREA and BLM recreation fee program policy, addressed establishing user fees. It established the rationale for charging standard amenity fees, explained the fee collection process, and outlined how the fees would be used at the Guffey Gorge Day-Use Area.

This special area qualifies as a site wherein visitors can be charged a fee in conjunction with a Recreation Use Permit (RUP or Permit), authorized under Section 803(h) of the FLREA, 16 U.S.C. 6802(h). In accordance with the FLREA and implementing regulations at 43 CFR 2930, visitors will obtain an RUP upon arrival at the site.

Permits/day-use passes will be available at a cost of $6 per vehicle and will be valid from dawn to dusk. The day-use pass will be available for purchase during the summer season (May 15 to September 30). As a standard amenity site within the National System of Public Lands, the fee will be waived on dates specified as fee-free days by the BLM. All applicable Federal Recreational Lands Passes will be accepted. All fees collected will be used to enhance visitor experiences, address environmental impacts and manage conflicting uses at Guffey Gorge Day-Use Area.

The BLM has notified and involved the public at each stage of the planning process, including the proposal to collect fees. The BLM posted the Guffey Gorge Business Plan in May 2016, which outlined operational goals of the area and the purpose of the fee program. The Rocky Mountain (formerly Front Range) RAC considered the proposal at its August 19, 2016, meeting and recommended approval. Future adjustments in the fee amount will be made in accordance with the Business Plan and through consultation with the RAC and the public prior to a fee increase. FLREA fee revenue and how the revenue is spent will be posted annually on-site and online at: https://go.usa.gov/xnKWH. Copies of the Business Plan will be available at the Royal Gorge Field Office and online.

Comments, including names, street addresses, and other contact information of commenters, will be available for public review at the BLM Royal Gorge Field Office (see ADDRESSES above). Before including your address, phone number, email address, or other personal identifying information in your comment, you should be aware that your entire comment—including your personal identifying information—may be made publicly available at any time. While you can ask us in your comment to withhold your personal identifying information from public review, we cannot guarantee that we will be able to do so.

Authority: 16 U.S.C. 6803(b) and 43 CFR 2932.13.

Gregory P. Shoop,
Acting BLM Colorado State Director.

[FR Doc. 2017-25836 Filed 11-29-17; 8:45 am]

BILLING CODE 4310-JB-P